DEPARTMENT OF THE INTERIOR

Bureau of Land Management

[WY-060-1320-EL, WYW155132]

Notice of Availability of the Record of Decision for the Eagle Butte West Coal Lease-by-Application, Wyoming

AGENCY: Bureau of Land Management, Interior.

ACTION: Notice of Availability.

SUMMARY: In accordance with the National Environmental Policy Act of 1969, the Federal Land Policy and Management Act of 1976, and the Bureau of Land Management (BLM) regulations and policies, the BLM announces the availability of the Record of Decision (ROD) for the Eagle Butte West Coal Lease-by-Application (LBA) located in the Casper Field Office (CFO).

ADDRESSES: Copies of the ROD/Final EIS are available via the internet at http://www.blm.gov/wy/st/en/info/NEPA/cfodocs/eaglebutte-westcoal.html or upon request from the following BLM office locations:

• Bureau of Land Management, Wyoming State Office, 5353 Yellowstone Road, Cheyenne, Wyoming.

• Bureau of Land Management, Casper Field Office, 2987 Prospector Drive, Casper, Wyoming.

FOR FURTHER INFORMATION CONTACT: Mr. Bob Janssen, Wyoming Coal Coordinator, (307) 775-6206 or Ms. Julie Weaver, Land Law Examiner, (307) 775-6260. Both Mr. Janssen's and Ms. Weaver's offices are located at the BLM Wyoming State Office, 5353 Yellowstone Road, Cheyenne, Wyoming 82009.

SUPPLEMENTARY INFORMATION: The ROD covered by this Notice of Availability (NOA) is for the LBA WYW155132 known as the Eagle Butte West Coal LBA Tract and addresses leasing coal administered by the BLM Casper Field Office in Campbell County, Wyoming. The BLM adopts Alternative 1. Under Alternative 1, the Eagle Butte West LBA Tract, as modified by BLM, would be offered for competitive sale. The Eagle Butte West LBA Tract, as modified by BLM, includes 1,427.77 acres, more or less, and contains an estimated 255 million tons of mineable coal. A competitive coal lease sale will be announced in the Federal Register.

This decision is subject to appeal to the Interior Board of Land Appeals (IBLA) as provided in 43 CFR part 4 within thirty (30) days from the date of publication of this NOA in the Federal Register. The ROD contains instructions for filing an appeal with the IBLA.

Dated: October 18, 2007.
Robert A. Bennett,
State Director.

[FR Doc. E7-23344 Filed 11-30-07; 8:45 am]

BILLING CODE 4310-22-P